DEPARTMENT OF AGRICULTURE

Agricultural Marketing Service

[Document No. DA-10-03; AMS-DA-09-0053]

Milk for Manufacturing Purposes and Its Production and Processing; Requirements Recommended for Adoption by State Regulatory Agencies

AGENCY: Agricultural Marketing Service, USDA.

ACTION: Notice.

SUMMARY: This document amends the recommended manufacturing milk requirements (Recommended Requirements) by raising the maximum allowable somatic cell count in producer herd goat milk from 1,000,000 cells per milliliter to 1,500,000 cells per milliliter. This action was initiated at the request of the National Association of Dairy Regulatory Officials (NADRO) and was developed in cooperation with NADRO, dairy trade associations, and producer groups. This will ensure that goat milk can continue to be shipped and recognizes that goats have a need for different regulatory limits for somatic cells than cows.

DATES: Effective Date: July 21, 2011.

FOR FURTHER INFORMATION CONTACT: Susan Sausville, Chief, Standardization Branch, Dairy Programs, AMS, USDA, telephone (202) 720-7473 or e-mail Susan.Sausville@ams.usda.gov.

SUPPLEMENTARY INFORMATION: Under the authority of the Agricultural Marketing Act of 1946, as amended (7 U.S.C. 1621-1627), the United States Department of Agriculture maintains a set of model regulations relating to quality and sanitation requirements for the production and processing of manufacturing grade milk. These Recommended Requirements are developed by AMS and recommended for adoption and enforcement by the various States that regulate manufacturing grade milk. The purpose of the model requirements is to promote uniformity in State dairy laws and regulations relating to manufacturing grade milk.

In consultation with representatives from NADRO, State regulatory agencies, FDA, and dairy industry trade associations, the Department prepared the Recommended Requirements to promote uniformity in State dairy laws and regulations for manufacturing grade milk. To accommodate changes that have occurred in the dairy industry, NADRO and various State officials have from time to time requested USDA to update the Recommended Requirements.

During its July 2009 annual meeting, NADRO passed a resolution requesting USDA to raise the maximum allowable somatic cell count for producer herd goat from 1,000,000 cells per milliliter to 1,500,000 cells per milliliter to provide consistency with the current requirements in place for Grade A producer herd goat milk. Due to inherent differences between cows and goats, goat milk with a somatic cell count of 1,500,000 million cells per milliliter can be produced from a healthy, non-mastitic udder and therefore, is quality milk. The need for a separate standard for goat milk was recognized by the National Conference on Interstate Milk Shipments (NCIMS) and was raised to 1,500,000 million cells per milliliter at their 2009 conference. This change will align the Recommended Requirements with the Grade A requirements for goat's milk. AMS reviewed this resolution and developed a draft that identified the changes associated with this request. This draft was provided to State regulatory officials and dairy trade association representatives for informal discussion prior to publication in the Federal Register.

The requirements of Executive Order 13132, Federalism, were considered in developing this notice, and it has been determined that this action does not have substantial effects on the States (the relationship between the National Government and the States or on the distribution of power and responsibilities among the various levels of government).

Public Comment

A Notice of Proposal to Change the document, “Milk for Manufacturing Purposes and Its Production and Processing; Recommended Requirements for Adoption by State Regulatory Agencies,” was published in the Federal Register on October 5, 2010 (75 FR 61418). The Notice of Proposal to Change the document provided for a 60-day comment period that ended December 5, 2010. Two comments were received. One from the membership of the Other Species Milk Committee of the National Conference on Interstate Milk Shipments (NCIMS) in support of the proposed amendment and one from an anonymous source in opposition of the amendment which provided no scientific justification to support their opposition.

Accordingly, the changes proposed in the Milk for Manufacturing Purposes and its Production and Processing; Recommended Requirements for Adoption by State Regulatory Agencies are incorporated in the revised Recommended Requirements.

The Recommended Requirements are available either from the above address or by accessing the information on the Internet at the following address: http://www.ams.usda.gov/dairy/manufmlk.pdf.

Dated: June 15, 2011.
Ellen King,
Acting Administrator, Agricultural Marketing Service.

[FR Doc. 2011-15447 Filed 6-20-11; 8:45 am]

BILLING CODE 3410-02-P